DEPARTMENT OF EDUCATION

[Docket No.: ED-2013-ICCD-0040]

Agency Information Collection Activities; Comment Request; Survey on the Use of Funds under Title II, Part A: Improving Teacher Quality State Grants—State-Level Activity Funds

AGENCY: Office of Elementary and Secondary Education (OESE), Department of Education (ED).

ACTION: Notice.

SUMMARY: In accordance with the Paperwork Reduction Act of 1995 (44 U.S.C. chapter 3501 et seq.), ED is proposing: A new information collection.

DATES: Interested persons are invited to submit comments on or before June 3, 2013.

ADDRESSES: Comments submitted in response to this notice should be submitted electronically through the Federal eRulemaking Portal at http://www.regulations.gov by selecting Docket ID number ED-2013-ICCD-0040 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E115, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Survey on the Use of Funds under Title II, Part A: Improving Teacher Quality State Grants—State-Level Activity Funds.

OMB Control Number: 1810-New.

Type of Review: A new information collection.

Respondents/Affected Public: State, Local, and Tribal Governments.

Total Estimated Number of Annual Responses: 52.

Total Estimated Number of Annual Burden Hours: 260.

Abstract: The reauthorized Elementary and Secondary Education Act (ESEA) places a major emphasis on teacher quality as a significant factor in improving student achievement. Under ESEA, Title II, Part A provides funds to states (SEAs) and school districts (LEAs) to conduct a variety of teacher-related reform activities. ESEA funds can be used for a variety of teacher quality activities in any subject area. Although the majority of funds are provided to LEAs, allowable SEA uses of funds include: Reforming teacher and principal certification (including recertification) and licensure to ensure that teachers have the necessary subject-matter knowledge and teaching skills in the subjects they teach; and providing support to teachers and principals through programs such as teacher mentoring, team teaching, reduced class schedules, intensive professional development, and using standards or assessments to guide beginning teachers; and carrying out programs to establish, expand, or improve alternative routes for state certification for teachers and principals (especially in mathematics and science) that will encourage highly qualified individuals with at least a baccalaureate degree; and developing and implementing effective mechanisms that help LEAs and schools recruit and retain highly qualified teachers, principals, and pupil services personnel; and reforming tenure systems, implementing teacher testing for subject-matter knowledge, and implementing teacher testing for state certification or licensure, consistent with Title II of the Higher Education Act.

Dated: March 28, 2013.
Tomakie Washington,
Acting Director, Information Collection Clearance Division, Privacy, Information and Records Management Services, Office of Management.

[FR Doc. 2013-07760 Filed 4-2-13; 8:45 am]

BILLING CODE 4000-01-P